DEPARTMENT OF TRANSPORTATION

Federal Aviation Administration

14 CFR Parts 121, 135, and 145

[Docket No.: FAA-2003-16527; Amendment No. SFAR 36-8]

RIN 2120-AI09

Special Federal Aviation Regulation No. 36, Development of Major Repair Data

AGENCY: Federal Aviation Administration (FAA), DOT.

ACTION: Final rule; confirmation of effective date.

SUMMARY: The FAA is confirming the effective date of a previously published direct final rule concerning development of major repair data. Under the FAA's direct final rule procedure, when we receive no adverse comment, we publish a notice in the Federal Register confirming the effective date of the final rule. This action advises the public that the FAA received no adverse comments on the direct final rule concerning development of major repair data and confirms that the effective date of the rule is January 23, 2004.

DATES: The amendment SFAR 36-8 became effective January 23, 2004.

FOR FURTHER INFORMATION CONTACT: Alicia K. Douglas, Office of Rulemaking (ARM-204), Federal Aviation Administration, 800 Independence Avenue, SW., Washington DC 20591, (202) 267-9681, alicia.k.douglas@faa.gov.

SUPPLEMENTARY INFORMATION: On November 19, 2003, the FAA published a direct final rule entitled, Special Federal Aviation Regulation (SFAR) No. 36, Development of Major Repair Data (68 FR 65376). The rule extended the SFAR 36 expiration date five years to January 23, 2009. Also, in the rule, the FAA made a technical amendment to Section No. 4 (Application) of SFAR 36 to accurately indicate the FAA Certificate Holding District Office charged with the overall inspection of the applicant's operations under its certificate as the appropriate FAA office to which applications should be submitted.

SFAR 36 allows holders of authorized repair station or aircraft operating certificates to approve aircraft products or articles for return to service after completing major repairs using self-developed repair data not directly approved by the FAA. Extension of the regulation continues to provide, for those who qualify, an alternative to gaining direct FAA approval of major repair data on a case-by-case basis. The FAA invited comments to the rule. The comment period closed on December 19, 2003. The rule became effective January 23, 2004.

Under the FAA's rulemaking procedures (found at 14 CFR 11.31), a direct final rule takes effect on a specified date unless FAA receives an adverse comment or a notice of intent to file an adverse comment within the comment period. An adverse comment explains why a rule would be inappropriate, or would be ineffective or unacceptable without a change. It may challenge the rule's underlying premise or approach. If we don't receive an adverse comment or a notice of intent, we will publish a confirmation document in the Federal Register telling the public the effective date of the rule. In this case, we received no adverse comments in response to the November 19, 2003, direct final rule. Therefore, we are confirming that the final rule became effective on January 23, 2004. This action does not preclude the FAA from taking any future course of action on this issue.

Issued in Washington, DC, on January 28, 2004.
Donald P. Byrne,
Assistant Chief Counsel, Regulations Division.

[FR Doc. 04-2221 Filed 2-3-04; 8:45 am]

BILLING CODE 4910-13-P